DEPARTMENT OF DEFENSE

Department of the Navy

[Docket ID: USN-2013-0007]

Privacy Act of 1974; System of Records

AGENCY: Department of the Navy, DoD.

ACTION: Notice to alter a System of Records.

SUMMARY: The Department of the Navy proposes to alter a system of records in its inventory of record systems subject to the Privacy Act of 1974, as amended. This notice proposes to alter N01080-2, Officer Master File Automated Systems.

DATES: This proposed action will be effective on December 2, 2013 unless comments are received which result in a contrary determination. Comments will be accepted on or before December 2, 2013.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Robin Patterson, Head, PA/FOIA Office (DNS-36), Department of the Navy, 2000 Navy Pentagon, Washington, DC 20350-2000, or by phone at (202) 685-6545.

SUPPLEMENTARY INFORMATION: The Department of the Navy's notices for systems of records subject to the Privacy Act of 1974 (5 U.S.C. 552a), as amended, have been published in the Federal Register and are available from the address in FOR FURTHER INFORMATION CONTACT. The proposed system report, as required by 5 U.S.C. 552a(r) of the Privacy Act of 1974, as amended, was submitted on March 18, 2013, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: October 29, 2013.
Aaron Siegel,
Alternate OSD Federal Register Liaison Officer, Department of Defense.

N01080-2

System name:

Officer Master File Automated Systems (September 21, 2006, 71 FR 55172).

Changes:

* * * * *

System location:

Delete entry and replace with “Defense Information Systems Agency (DISA), 5450 Carlisle Pike, Mechanicsburg, PA 17050-0975.”

* * * * *

Categories of records in the system:

Delete entry and replace with “System contains personnel data to support officer assignment, planning, programming, accounting, promotions, career development, and procurement, including: Name, Social Security Number (SSN), rank, status, education, training, security clearance, qualifications, assignments, performance, service, rotation and retirement dates, marital status, and number of dependants. The system also contains Activity Personnel Diaries, personnel accounting documents, Reserve Unit Drill reports, and other personnel transaction documents necessary to maintain file accuracy and currency.”

* * * * *

Storage:

Delete entry and replace with “Paper and electronic storage media.”

* * * * *

Retention and disposal:

Delete entry and replace with “Records are maintained in accordance with the Department of the Navy Records Management Program, Records Management Manual, SECNAV M-5210.1, January 2012, SSIC 1080, due to the large volume they are available at http://doni.daps.dla.mil/SECNAV%20Manuals1/5210.1.pdf or from the system manager.”

System manager(s) and address:

Delete entry and replace with “Commander, Navy Personnel Command (PERS-33), 5720 Integrity Drive, Millington, TN 38055-3300.”

Notification procedure:

Delete entry and replace with “Individuals seeking to determine whether this system of records contains information about themselves should address written inquiries to the Commander, Navy Personnel Command (PERS-33), 5720 Integrity Drive, Millington, TN 38055-3300.

Written request should contain full name, Social Security Number (SSN), rank, status, and signature of requester. The system manager may require an original signature or a notarized signature as a means of proving the identity of the individual requesting access to the records.”

Record access procedures:

Delete entry and replace with “Individuals seeking access to records about themselves contained in this system of records should address written inquiries to the Commander, Navy Personnel Command (PERS-33), 5720 Integrity Drive, Millington, TN 38055-3300.

Written request should contain full name, Social Security Number (SSN), rank, status, and signature of requester. The system manager may require an original signature or a notarized signature as a means of proving the identity of the individual requesting access to the records.”

* * * * *

[FR Doc. 2013-26120 Filed 10-31-13; 8:45 am]

BILLING CODE 5001-06-P